DEPARTMENT OF HEALTH AND HUMAN SERVICES

Health Resources and Services Administration

Statement of Delegation of Authority

Notice is hereby given that I have delegated to the Administrator, Health Resources and Services Administration (HRSA), the authorities vested in the Secretary under Section 4101(a) of the Patient Protection and Affordable Care Act (Pub. L. 111-148) (42 U.S.C. 280h-4), as amended hereafter, and Section 4101(b) of the Patient Protection and Affordable Care Act (Pub. L. 111-148) amending Section 399Z-1 of the Public Health Service Act (42 U.S.C. 280h-5), as amended hereafter. These authorities may be redelegated.

This delegation excludes the authority to issue regulations, to establish advisory committees and councils, and appoint their members, and to submit reports to Congress, and shall be exercised in accordance with the Department's applicable policies, procedures, and guidelines.

I herby affirm and ratify any actions taken by the Administrator, HRSA, or other HRSA officials, which involved the exercise of these authorities prior to the effective date of this delegation.

This delegation is effective upon date of signature.

Dated: February 10, 2011.
Kathleen Sebelius,
Secretary.

[FR Doc. 2011-3587 Filed 2-16-11; 8:45 am]

BILLING CODE 4165-15-P